DEPARTMENT OF DEFENSE

Department of the Navy

[No. USN-2007-0013]

Proposed Collection; Comment Request

AGENCY: Department of the Navy, DoD.

ACTION: Notice.

SUMMARY: In compliance with Section 3506(c)(2)(A) of the Paperwork Reduction Act of 1995, the Naval Sea Systems Command announces a proposed extension of a previously approved public information collection and seeks public comment on the provisions thereof. Comments are invited on: (a) Whether the proposed collection of information is necessary for the proper performance of the functions of the agency, including whether the information shall have practical utility; (b) the accuracy of the agency's estimate of the burden of the proposed information collection; (c) ways to enhance the quality, utility and clarity of the information to be collected; and (d) ways to minimize the burden of the information collection on respondents, including through the use of automated collection techniques or other forms of information technology.

DATES: Consideration will be given to all comments received by April 17, 2007.

ADDRESSES: You may submit comments, identified by docket number and title, by any of the following methods:

• Federal eRulemaking Portal: http://www.regulations.gov. Follow the instructions for submitting comments.

• Mail: Federal Docket Management System Office, 1160 Defense Pentagon, Washington, DC 20301-1160.

• Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request additional information or to obtain a copy of the proposal and associated collection instruments, write to Commander, Naval Sea Systems Command (SEA 04Z3), 1333 Isaac Hull Avenue, SE., STOP 4030, Washington Navy Yard, DC 20376-4030, or contact Connie Gerow or Len Thompson at (202) 781-4074 or (202) 781-1832, respectively.

Title: Associated Form; and OMB Number: Facilities Available for the Construction or Repair or Ships; Standard Form 17, OMB Control Number 0703-0006.

Needs and Uses: This collection of information provides NAVSEASYSCOM and the Maritime Administration with a list of facilities available for construction or repair of ships, and information utilized in a database for assessing the production capacity of the individual shipyards. Respondents are businesses involved in shipbuilding and/or repair.

Affected Public: Businesses or other for profit institutions.

Annual Burden Hours: 520.

Number of Respondents: 130.

Responses Per Respondent: 1.

Average Burden Per Response: 4 hours.

Frequency: Annually and as requested.

SUPPLEMENTARY INFORMATION:

Summary of Information Collection

This collection of information provides NAVSEASYSCOM and the Maritime Administration with a list of facilities available for construction or repair of ships, and information utilized in a database for assessing the production capacity of the individual shipyards. Respondents are businesses involved in shipbuilding and/or repair.

Dated: February 12, 2007.
Patricia L. Toppings,
Alternate OSD Federal Register Liaison Officer, Department of Defense.

[FR Doc. 07-732 Filed 2-15-07; 8:45 am]

BILLING CODE 5007-06-M